FEDERAL COMMUNICATIONS COMMISSION

47 CFR Part 73

[DA 04-736]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective April 1, 2004.

FOR FURTHER INFORMATION CONTACT: Kathleen Scheuerle, Media Bureau, (202) 418-2180.

SUPPLEMENTARY INFORMATION: This is a summary of the Commission's Report and Order, adopted March 17, 2004, and released May 19, 2004. The full text of this Commission decision is available for inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCASTING SERVICES

1. The authority citation for part 73 continues to read as follows:

Authority: 47 U.S.C. 154, 303, 334, and 336.

§ 73.202 [Amended]

2. Section 73.202(b), the Table of FM Allotments under Florida, is amended by removing Channel 270C and adding Channel 270C0 at Fort Myers

3. Section 73.202(b), the Table of FM Allotments under Mississippi, is amended by removing Channel 256C and adding Channel 256C0 at Greenwood.

4. Section 73.202(b), the Table of FM Allotments under Missouri, is amended by removing Channel 299C and adding Channel 299C0 at St. Louis.

5. Section 73.202(b), the Table of FM Allotments under Montana, is amended by removing Channel 283C1 and adding Channel 284C1 at Big Sky.

6. Section 73.202(b), the Table of FM Allotments under New Mexico, is amended by removing Channel 266C3 and adding Channel 266C2 at White Rock.

7. Section 73.202(b), the Table of FM Allotments under Oregon, is amended by removing Channel 228C2 and adding Channel 228C3 at Lakeview.

8. Section 73.202(b), the Table of FM Allotments under Texas, is amended by removing Channel 224A and adding Channel 224C2 at South Padre Island.

9. Section 73.202(b), the Table of FM Allotments under Utah, is amended by removing Channel 290C3 and adding Channel 288C2 at Vernal.

10. Section 73.202(b), the Table of FM Allotments under Wyoming, is amended by removing Channel 291C3 and adding Channel 291C at Evanston.

Federal Communications Commission.
John A. Karousos,
Assistant Chief, Audio Division, Media Bureau.

[FR Doc. 04-7372 Filed 3-31-04; 8:45 am]

BILLING CODE 6712-01-P